Title 3—

The President

Proclamation 9912 of July 25, 2019

Anniversary of the Americans with Disabilities Act, 2019

By the President of the United States of America

A Proclamation

On the 29th anniversary of the Americans with Disabilities Act (ADA), we celebrate this historic legislation, which reflects our Nation's dedication to securing the equal rights and defending the intrinsic dignity of all men and women. Today, we renew our commitment to empowering Americans with disabilities through equal access so they can achieve their full potential, and we celebrate their contributions to our great Nation.

Since 1990, the ADA has transformed the lives of millions of Americans by promoting equal access to employment, government services, public accommodations, commercial facilities, and public transportation. The more than 61 million Americans who are currently living with disabilities are part of the fabric of our Nation, and the ADA helps eliminate barriers to their full participation in every community across the country. We are grateful for the ADA for helping to foster a vibrant culture of inclusivity in our Nation.

Employment opportunities for Americans with disabilities are growing, and the unemployment rate for Americans with disabilities reached its lowest level ever during my Administration. Our Nation is building on the precedent of the ADA by taking further steps to ensure opportunity for all Americans. My Administration continues to encourage hiring individuals with disabilities, including through our Multi-Agency Task Force on Improving Employment for People with Disabilities. We are making extraordinary strides in removing obstacles that stand in the way of those with disabilities to lead healthy, self-sufficient, and independent lives. I signed an Executive Order to increase apprenticeship opportunities for all Americans, including those with disabilities. This action has helped bring reforms to ineffective training and workforce development programs, better enabling Americans with disabilities to develop in-demand skills for a wide range of industries. We also are actively supporting research to develop new technologies that will increase access and quality of life for Americans with disabilities. And we are addressing the significant extra living expenses Americans with disabilities often face through enhanced awareness of Achieving a Better Life Experience accounts, which allow money to be saved for qualified disability-related expenses without having to pay taxes on earnings.

As we commemorate the anniversary of the ADA, we recommit to working together to ensure Americans with disabilities have every opportunity to realize the American Dream.

NOW, THEREFORE, I, DONALD J. TRUMP, President of the United States of America, by virtue of the authority vested in me by the Constitution and the laws of the United States, do hereby proclaim July 26, 2019, as a day in celebration of the 29th Anniversary of the Americans with Disabilities Act. I call upon all Americans to observe this day with appropriate ceremonies and activities that celebrate the contributions of Americans with disabilities and to renew our commitment to achieving the promise of our freedom for all Americans.

IN WITNESS WHEREOF, I have hereunto set my hand this twenty-fifth day of July, in the year of our Lord two thousand nineteen, and of the Independence of the United States of America the two hundred and forty-fourth.

[FR Doc. 2019-16463

Filed 7-30-19; 8:45 am]

Billing code 3295-F9-P